Title 3—

The President

Proclamation 7765 of April 2, 2004

Cancer Control Month, 2004

By the President of the United States of America

A Proclamation

We have made dramatic progress in our fight against cancer, yet this disease continues to be the second-leading cause of death in the United States. Cancer Control Month provides the opportunity for Americans to learn vital information about cancer prevention, detection, and treatment.

Medical science is helping cancer victims live healthier, longer lives. Survival rates are rising, and today our country has more than 9 million cancer survivors. However, much work remains to be done. Researchers estimate that more than 1.3 million people in the United States will be diagnosed with cancer this year, and more than 800,000 will die from the disease.

A good diet, regular exercise, and healthy choices help people reduce their risk of developing many chronic diseases, including cancer. Research suggests that being overweight or obese accounts for 14 percent of cancer deaths among men and 20 percent among women.

Regular check-ups are also important in the fight against cancer. Preventive health screenings can detect many forms of cancer at earlier, less dangerous stages, allowing doctors to stop cancer before it spreads. I encourage all Americans to talk to their doctors about preventive screenings and regular check-ups.

As we observe Cancer Control Month, I commend cancer survivors for their courage and determination. I applaud medical professionals, researchers, family members, and friends for their efforts to improve the lives of those suffering from cancer and for their work in finding a cure for this devastating disease. I encourage all Americans to learn more about cancer. By working together, we can save lives and win the fight against cancer.

In 1938, the Congress of the United States passed a joint resolution (52 Stat. 148; 36 U.S.C. 103) as amended, requesting the President to issue an annual proclamation declaring April as “Cancer Control Month.”

NOW, THEREFORE, I, GEORGE W. BUSH, President of the United States of America, do hereby proclaim April 2004 as Cancer Control Month. I encourage citizens, government agencies, private businesses, nonprofit organizations, and other interested groups to join in activities that will increase awareness of what Americans can do to prevent and control cancer.

IN WITNESS WHEREOF, I have hereunto set my hand this second day of April, in the year of our Lord two thousand four, and of the Independence of the United States of America the two hundred and twenty-eighth.

B

[FR Doc. 04-8040

Filed 4-6-04; 8:58 am]

Billing code 3195-01-P